NATIONAL AERONAUTICS AND SPACE ADMINISTRATION

[Notice (02-008)]

NASA Advisory Committees; Renewal of the Centennial of Flight Commission

AGENCY: National Aeronautics and Space Administration (NASA).

ACTION: Notice renewal of the charter of the Centennial of Flight Commission.

SUMMARY: Pursuant to sections 14(b)(1) and 9(c) of the Federal Advisory Committee Act (Pub. L. 92-463), and after consultation with the Committee Management Secretariat, General Services Administration, the Administrator of the National Aeronautics and Space Administration has determined that a renewal of the Centennial of Flight Commission (Commission) is in the public interest in connection with the performance of duties imposed upon NASA by law. The structure and duties of the Commission remain unchanged.

FOR FURTHER INFORMATION CONTACT: Ms. Sharon Foster, Code I, National Aeronautics and Space Administration, Washington, DC 20546, 202/358-1903.

SUPPLEMENTARY INFORMATION: Information regarding the Centennial of Flight Commission is available on the World Wide Web at http://www.centennialofflight.gov.

Sylvia K. Kraemer,
Advisory Committee Management Officer, National Aeronautics and Space Administration.

[FR Doc. 02-1914 Filed 1-24-02; 8:45 am]

BILLING CODE 7510-01-P